DEPARTMENT OF HOMELAND SECURITY

Coast Guard

33 CFR Part 165

[Docket Number USCG-2020-0138]

RIN 1625-AA00

Safety Zones; Recurring Marine Events and Fireworks Displays Within the Fifth Coast Guard District

AGENCY: Coast Guard, DHS.

ACTION: Final rule.

SUMMARY: The Coast Guard is amending its safety zones established for recurring marine events and fireworks displays that take place within the Fifth Coast Guard District area of responsibility. This final rule revises the listing of events that informs the public of regularly scheduled fireworks displays that require additional safety measures provided by regulations. Through this final rule, the current list of recurring marine events requiring safety zones is updated with revisions, additional events, and removal of events that no longer take place in the Fifth Coast Guard District area of responsibility.

DATES: This rule is effective without actual notice from October 15, 2021. For the purposes of enforcement, actual notice will be used from October 1, 2021, until October 15, 2021.

ADDRESSES: To view documents mentioned in this preamble as being available in the docket, go to https://www.regulations.gov, type USCG-2020-0138 in the “SEARCH” box and click “SEARCH.” Click on Open Docket Folder on the line associated with this rule.

FOR FURTHER INFORMATION CONTACT: If you have questions on this rule, call or email Mr. Ethan Coble, Fifth Coast Guard District Office of Waterways Management, U.S. Coast Guard; telephone (757) 398-7745, email Ethan.J.Coble@uscg.mil or Mr. Jerry Barnes, Fifth Coast Guard District Office of Waterways Management, U.S. Coast Guard; telephone (757) 398-6230, email Jerry.R.Barnes@uscg.mil.

SUPPLEMENTARY INFORMATION:

I. Table of Abbreviations

CFR Code of Federal Regulations

COTP Captain of the Port

DHS Department of Homeland Security

Event PATCOM Coast Guard Event Patrol Commander

FR Federal Register

NPRM Notice of proposed rulemaking

§ Section

U.S.C. United States Code

II. Background Information and Regulatory History

The Coast Guard regularly updates the regulations for recurring safety zones within the Fifth Coast Guard District at 33 CFR 165.506, and its respective tables. These recurring safety zones are for fireworks displays that take place either on or over the navigable waters of the Fifth Coast Guard District as defined at 33 CFR 3.25. These regulations were last amended June 13, 2017 (81 FR 81005). Since then, Marine Events within the Fifth US Coast Guard District have been created or changed in a way that varies from their description in this regulation. In response, on April 30, 2021, the Coast Guard published a notice of proposed rulemaking (NPRM) titled Safety Zones; Recurring Marine Events and Fireworks Displays Within the Fifth Coast Guard District, (86 FR 22913). There we stated why we issued the NPRM, and invited comments on our proposed regulatory action related to recurring marine events and firework displays. The comment period ended on June 1, 2021, and we received no comments.

Under 5 U.S.C. 553(d)(3), the Coast Guard finds that good cause exists for making this rule effective less than 30 days after publication in the Federal Register. Delaying the effective date would be impracticable and contrary to the public interest. Immediate action is needed to respond to the potential safety hazards associated with the remaining 2021 boating season events. The first of the remaining events is a fireworks display scheduled to occur during the Washington Nationals major league baseball home game on October 1, 2021, hosted at Nationals Park on the Anacostia River. Hazards associated with this event include potential hazardous falling debris and possible fire, explosion, projectile, and burn hazards.

III. Legal Authority and Need for Rule

The Coast Guard is conducting this rulemaking under authority in 46 U.S.C. 70034 (previously, 33 U.S.C. 1231). The Secretary has delegated ports and waterways authority, with certain reservations not applicable here, to the Commandant via DHS Delegation No. 00170.1, Revision No. 01.2, paragraph (II)(70). The Commandant has further delegated these authorities within the Coast Guard as described in 33 CFR 1.05-1 and 6.04-6. The need for this rule is to ensure the safety of persons, vessels, and the navigable waters within close proximity to fireworks displays before, during, and after the scheduled events. Each year, organizations, individuals and government agencies in the Fifth Coast Guard District sponsor fireworks displays in the same general location and time period. Each event uses a floating platform (e.g., barge) or an on-shore site near the shoreline to launch the fireworks. A safety zone is used to limit access to an area within a specified distance surrounding the fireworks launch site to ensure the safety of persons and property. Coast Guard personnel on scene may allow boaters within the safety zone if conditions permit.

IV. Discussion of Comments, Changes, and the Rule

As noted above, we received no comments on our NPRM, published April, 30 2021. There are no changes in the regulatory text of this rule from the NPRM.

A. Administrative Changes

As described in the NPRM, administrative changes to the regulatory text will reorganize and consolidate the text, so as to improve the readability and reflect revised local policies. The following is a summary of changes from the current regulatory text:

• Re-organized to better present information on defined terms, applicability of the regulation, when the regulation will be enforced, requirements of the regulation, warning sign information, postponement or cancellation of an event, COTP contact information, and the tables of events.

• Changed language from “Coast Guard Patrol Commander” to “Event Patrol Commander”.

• Consolidated enforcement regulations into a single paragraph (c).

• Changed language in the paragraph regarding warning-sign requirements from “fireworks launch site” to “floating platform”.

• Updated applicable contact information for Coast Guard Sectors.

• Added a paragraph to give discretionary authority to COTPs and Event PATCOMs to postpone or cancel the fireworks display at any time for the purpose of ensuring the safety of the public.

B. Changes to Table to 33 CFR 165.506

This rule adds 14 new safety zones, revises 29 previously established safety zones, and removes 24 safety zones. Currently there is one table of events for all of 33 CFR 165.506. This table has been rewritten into separate tables for each COTP zone. Enforcement date entries in the table have also be reformatted. Summarized additions, revisions and removals from the table are as follows:

New Safety Zones

Table 1—New Safety Zones To Be Added to 33 CFR 165.506
USCG sector | Location | Regulated area | Enforcement period(s) *
Coast Guard Sector Delaware Bay—COTP Zone | Delaware Bay, Lewes, DE | All waters of Delaware Bay off Lewes, DE, within 350 yards of the barge anchored in approximate position 38°47′12″ N, 075°07′48″ W | One period, four days.
| Great Egg Harbor Bay, Ocean City, NJ | The waters of the Great Egg Harbor Bay within a 300-yard radius of the fireworks barge in approximate position latitude 39°17′24″ N, longitude 074°34′31″ W, adjacent to shoreline of Ocean City, NJ | One period, one day.
Coast Guard Sector Maryland-National Capital Region—COTP Zone | Washington Channel, Upper Potomac, Washington, DC | All navigable waters of the Washington Channel within 200 feet of the fireworks barge, which will be located within an area bounded on the south by latitude 38°52′30″ N, and bounded on the north by the southern extent of the Francis Case (I-395) Memorial Bridge, located at Washington, DC | Multiple periods March through December each year.
| Anacostia River, Washington, DC | All navigable waters of the Anacostia River within 400 feet of the fireworks barge in approximate position latitude 38°52′16.3″ N, longitude 077°00′09.7″ W, located at Washington, DC | One period, one day.
| Middle River, Baltimore County, MD | All navigable waters of the Middle River within 200 yards of the fireworks barge in approximate position latitude 39°18′25″ N, longitude 076°24′27″ W, located in Baltimore County, MD | One period, one day.
| Susquehanna River, Havre de Grace, MD | All navigable waters of the Susquehanna River within 200 yards of the fireworks barge in approximate position latitude 39°32′19″ N, longitude 076°04′58.3″ W, located at Havre de Grace, MD | One period, one day.
| Spa Creek, Annapolis, MD | All navigable waters of Spa Creek within 400 feet of the fireworks barge in approximate position latitude 38°58′32.48″ N, longitude 076°28′57.55″ W, located at Annapolis, MD | One period, one day.
| Severn River, Sherwood Forest, MD | All navigable waters of the Severn River within 150 yards of the fireworks discharge site located at the end of Sherwood Forest Club main pier in approximate position latitude 39°01′54.0″ N, longitude 076°32′41.8″ W, located at Sherwood Forest, MD | One period, one day.
| Patapsco River, Middle Branch, Baltimore, MD | All navigable waters of the Middle Branch of the Patapsco River, within 800 feet of a fireworks barge in approximate position latitude 39°15′31.67″ N, longitude 076°37′13.95″ W, located at Baltimore, MD | One period, one day.
Coast Guard Sector Virginia—COTP Zone | Elizabeth River, Town Point Reach, Norfolk, VA | All waters of Elizabeth River within a 600-foot radius of the fireworks display at approximate position latitude 36°50′40.99″ N, longitude 076°17′45.48″ W near Town Point Park, VA | One period, one day.
| North Atlantic Ocean, Virginia Beach, VA | All waters of the North Atlantic Ocean within a 300-yard radius of the center located at approximate position latitude 36°50′29.91″ N, longitude 075°58′05.36″ W, located off the beach between 10th and 15th Streets | One period, three days.
Coast Guard Sector North Carolina—COTP Zone | Bath Creek, Bath, NC | All waters on Bath Creek within a 300-yard radius of approximate position 35°28′05″ N, 076°48′56″ W, Bath, NC | One period, two days.
| Atlantic Intracoastal Waterway, Surf City, NC | All waters of the Atlantic Intracoastal Waterway within a 300-yard radius of approximate position latitude 34°25′46″N, longitude 077°33′01″W, in Surf City, NC | One period, one day.
| Neuse River, New Bern, NC | All waters within a 300-yard radius of the fireworks launch location at approximate position latitude 35°06′23″N, longitude 077°01′48″W, on the Neuse River, New Bern, NC | One period, one day.

Revised Safety Zones

Table 2—Changes to Existing Events in 33 CFR 165.506
Current table to § 165.506 entry | Location | Revision (date and/or coordinates) | Reason for change
(a.) 5 | Barnegat Bay, Barnegat Township, NJ | dates | Event no longer occurs in September.
(a.) 9 | Metedeconk River, Brick Township, NJ | dates | Event now takes place in June or July instead of July and September.
(a.) 14 | Delaware, River, Chester, PA | dates | Event date updated.
(a.) 15 | Delaware River, Essington, PA | dates and coordinates | The location of the safety zone was moved to reflect the updated location of the fireworks barge. Event now occurs in June or July instead of September.
(a.) 18 | Rehoboth Bay, DE | dates | The spring occurrence of the event has changed from April to May.
(b.) 2 | Severn River and Spa Creek, Annapolis, MD | dates and coordinates | Safety zone size decreased from a 300-yard radius to a 200-yard radius without negative impact to public safety. December occurrence no longer occurs.
(b.) 3 | Upper Potomac River, Washington, DC | coordinates | Safety zone size decreased from a 300-yard radius to a 200-yard radius without negative impact to public safety.
(b.) 4 | Northwest Harbor, Patapsco River, MD | dates and coordinates | Safety zone size decreased from a 300-yard radius to a 200-yard radius without negative impact to public safety. July and December occurrences removed; added alternative date to September.
(b.) 5 | Baltimore Inner Harbor, MD | dates | April, July, and December occurrences no longer occur; added new occurrence in November.
(b.) 8 | Patuxent River, Calvert County, MD | dates and coordinates | The location of the safety zone was moved to reflect the updated location of the fireworks barge closer to shore. Alternative date added.
(b.) 9 | Chesapeake Bay, Chesapeake Beach, MD | dates and coordinates | The location of the safety zone was moved to reflect the updated location of the fireworks barge. Alternative dates added.
(b.) 10 | Choptank River, Cambridge, MD | coordinates | The location of the safety zone was moved to reflect the updated location of the fireworks site to an onshore location.
(b.) 14 | Miles River, St. Michaels, MD | coordinates | The location of the safety zone was moved to reflect the updated location offshore.
(b.) 15 | Tred Avon River, Oxford, MD | dates and coordinates | The location of the safety zone was moved to reflect the updated location of the fireworks site. Alternative dates added.
(b.) 16 | Northeast River, North East, MD | dates and coordinates | Safety zone size decreased from a 300-yard radius to a 150-yard radius without negative impact to public safety. Alternative August date added.
(b.) 18 | Anacostia River, Washington, DC | coordinates | Safety zone size increased from a 150-yard radius to 600-foot radius without negative impact to public safety.
(b.) 19 | Potomac River, Prince William County, VA | coordinates | Safety zone size decreased from a 200-yard radius to 150-yard radius without negative impact to public safety.
(b.) 21 | Isle of Wight Bay, Ocean City, MD | dates and coordinates | Safety zone size decreased from a 200 yard radius to 150 yards without negative impact to public safety. Event changed from near Memorial Day to July 4th and near Labor Day.
(b.) 22 | Assawoman Bay, Fenwick Island, MD | dates and coordinates | Safety zone size decreased from a 360-yard radius to 200-yard radius without negative impact to public safety.
(b.) 23 | Baltimore Harbor, MD | coordinates | Safety zone size decreased from a 280-yard radius to 800-foot radius without negative impact to public safety. April Occurrence removed.
(b.) 24 | Chester River, Kent Island Narrows, MD | dates and coordinates | Safety zone moved to a more open shoreside location and reduced from a 300-yard radius to 800-foot radius without negative impact to public safety. Alternative date added.
(c.) 6 | Chesapeake Bay, Virginia Beach, VA | Dates | Alternative date added for planning flexibility.
(d.) 2 | Cape Fear River, Wilmington, NC | dates | Alternative date added to the April occurrence.
(d.) 3 | Green Creek and Smith Creek, Oriental, NC | coordinates | Language “approximate” added to be clearer and consistent with other entries.
(d.) 4 | Pasquotank River, Elizabeth City, NC | dates and coordinates | Language “located approximately 400 yards north of Cottage Point, NC” removed to be clearer and consistent with other entries. May occurrences added.
(d.) 7 | Pamilico River, Washington, NC | coordinates | Language “the fireworks launch site at approximate position” added to be clearer and consistent with other entries.
(d.) 8 | Neuse River, New Bern, NC | coordinates | Language “located 420 yards north of the New Bern Twin Span, high rise bridge” removed to be clearer and consistent with other entries.
(d.) 13 | Atlantic Intracoastal Waterway, Swansboro, NC | coordinates | Language “the fireworks launch position at” and “near Swansboro” added and “on Pelican Island” removed to be clearer and consistent with other entries.
(d.) 14 | Shallowbag Bay, Manteo, NC | coordinates | The safety zone was increased from a 200-yard radius to a 300-yard radius to account for larger fireworks display.

Safety Zones To Be Removed

Table 3—Safety Zones To Be Removed From the Table to 33 CFR 165.506
Current table to § 165.506 entry | Date(s) | Location | Reason for removal
(a.) 1 | July 2nd, 3rd, 4th, or 5th | North Atlantic Ocean, Bethany Beach, DE | Removing safety zone and deferring to existing navigation rules does not negatively impact public safety.
(a.) (2) | Labor Day | Indian River Bay, DE | Removing safety zone and deferring to existing navigation rules does not negatively impact public safety.
(a.) (3) | July 2 | North Atlantic Ocean, Rehoboth Beach, DE | Removing safety zone and deferring to existing navigation rules does not negatively impact public safety.
(a.) (8) | July 2nd, 3rd, 4th, or 5th August—3rd Sunday | Great Egg Harbor Inlet, Margate City, NJ | Removing safety zone and deferring to existing navigation rules does not negatively impact public safety.
(a.) 10 | July 2nd, 3rd, 4th, or 5th | North Atlantic Ocean, Atlantic City, NJ | Removing safety zone and deferring to existing navigation rules does not negatively impact public safety.
(a.) 11 | July 2nd, 3rd, 4th or 5th October—1st or 2nd Saturday | North Atlantic Ocean, Ocean City, NJ | Removing safety zone and deferring to existing navigation rules does not negatively impact public safety.
(a.) 17 | July 2nd, 3rd, 4th, or 5th | North Atlantic Ocean, Sea Isle, NJ | Removing safety zone and deferring to existing navigation rules does not negatively impact public safety.
(b.) 1 | April—1st, 2nd, or 3rd Saturday | Washington Channel, Potomac River, Washington, DC | Event no longer held at this location.
(b.) 7 | July 4th; December 31st | Northwest Harbor Patapsco River, MD | Event no longer held at this location.
(b.) 11 | July—2nd or 3rd or last Saturday | Potomac River, Fairview Beach, Charles County, MD | Event no longer held at this location.
(b.) 12 | July—day before Independence Day holiday and July 4th; November—3rd Thursday, 3rd Saturday and last Friday; December—1st, 2nd and 3rd Friday | Potomac River, National Harbor, MD | Event no longer held at this location.
(c.) 2 | September—last Friday or October—1st Friday | York Rivers, West Point, VA | Event no longer held at this location.
(c.) 4 | July 4th, July 5th, July 6th, or July 7th | James River, Newport News, VA | Event no longer held at this location.
(c.) 7 | July 4th; December 31st; January 1st | Elizabeth River Southern Branch, Norfolk, VA | Removing safety zone and deferring to existing navigation rules does not negatively impact public safety.
(c.) 8 | July—3rd Saturday | John H. Kerr Reservoir, Clarksville, VA | Removing safety zone and deferring to existing navigation rules does not negatively impact public safety.
(c.) 10 | September—last Saturday or October—1st Saturday | North Atlantic Ocean Safety Zone B, Virginia Beach, VA | Removing safety zone and deferring to existing navigation rules does not negatively impact public safety.
(c.) 11 | Friday, Saturday and Sunday Labor Day Weekend | North Atlantic Ocean Safety Zone C, Virginia Beach, VA | Event no longer held at this location.
(c.) 14 | July—3rd, 4th, and 5th | Great Wicomico River, Mila, VA | Event no longer held at this location.
(c.) 15 | July—1st Friday, Saturday and Sunday | Cockrell's Creek, Reedville, VA | Event no longer held at this location.
(c.) 16 | May—last Sunday | James River, Richmond, VA | Event no longer held at this location.
(c.) 17 | June—last Saturday | Rappahannock River, Tappahannock, VA | Event no longer held at this location.
(c.) 19 | July 3rd or 4th | Pagan River, Smithfield, VA | Event no longer held at this location.
(c.) 20 | July 4th | Sandbridge Shores, Virginia Beach, VA | Event no longer held at this location.
(c.) 22 | July 3rd, 4th, or 5th | Urbanna Creek, Urbanna, VA | Event no longer held at this location.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the short amount of time that vessels will be restricted from certain parts of the waterway and the small size of these areas that are usually positioned away from high vessel traffic zones. Generally vessels would not be precluded from getting underway, or mooring at any piers or marinas currently located in the vicinity of the regulated areas. Advance notifications will also be made to the local maritime community by issuance of Local Notice to Mariners, Broadcast Notice to Mariners via VHF-FM marine channel 16, Marine Safety Information or Security Bulletins so mariners can adjust their plans accordingly. Notifications to the public for most events will typically be made by local newspapers, radio and TV stations. The Coast Guard anticipates that these safety zones will only be enforced for limited durations, less than 24 hours, occurring on specific dates throughout the year.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received zero comments from the Small Business Administration on this rulemaking. The Coast Guard certifies under 5 U.S.C. 605(b) that this rule will not have a significant economic impact on a substantial number of small entities.

While some owners or operators of vessels intending to transit through a safety zone may be small entities, for the reasons stated in section IV.A above, this rule would not have a significant economic impact on any vessel owner or operator. These safety zones will not have a significant economic impact on a substantial number of small entities for the following reasons: The Coast Guard will ensure that small entities are able to operate in the areas where events are occurring to the extent possible while ensuring the safety of the public. The enforcement period will be short in duration and, in many of the areas, vessels can transit safely around the safety zone. Generally permission to enter, remain in, or transit through these regulated areas during the enforcement may be given when deemed safe to do so by the Event PATCOM on scene.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves implementation of regulations within 33 CFR part 165 that apply to recurring safety zones are for fireworks displays that take place either on or over the navigable waters of the United States. Some events by their nature may introduce potential for adverse impact on the safety or other interest of waterway users or waterfront infrastructure within or close proximity to the event area. It is categorically excluded from further review under paragraph L[60] of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 00170.1, Revision No. 1.2.

2. Revise § 165.506 to read as follows:

§ 165.506 Safety Zones; Fireworks Displays in the Fifth Coast Guard District.

(a) Definitions. The following definitions apply to this section:

Event Patrol Commander or Event PATCOM means a commissioned, warrant, or petty officer of the Coast Guard who has been designated by the respective Coast Guard Sector—COTP to enforce these regulations.

Official patrol means any vessel assigned or approved by the respective Captain of the Port (COTP) with a commissioned, warrant, or petty officer on board and displaying a Coast Guard ensign, or any state or local law enforcement vessel approved by the COTP in accordance with current local agreements.

(b) Applicability. This section applies to the safety zones listed in paragraph (h) of this section.

(c) Enforcement periods and COTP notification to the public. The COTP for the area where an event will be held will annually notify the public of each enforcement of a safety zone in paragraph (h) of this section by all appropriate means to affect the widest publicity among the affected public, including by Local Notices to Mariners and by Broadcast Notice to Mariners over VHF-FM marine band radio. The announcement will contain the details of the fireworks display, including the date(s) and time(s) of the enforcement period of the regulation with respect to that safety zone and the affected geographical area. Broadcasts may be made for these events beginning 24 to 48 hours before the event is scheduled to begin. The enforcement period(s) for each safety zone in paragraph (h) of this section is subject to change, but the duration of enforcement will remain the same, or nearly the same, total amount of time as stated in its table. An event may be conducted on the day following the date listed in paragraph (h) of this section in the case of inclement weather. Unless the COTP notifies the public otherwise, the safety zones in paragraph (h) of this section will be enforced from 5:30 p.m. on the date listed in paragraph (h) to 1 a.m. the date following the last date listed in paragraph (h) for an event.

(d) Regulations. (1) The general regulations contained in 33 CFR 165.23 apply.

(2) Vessels may not enter, remain in, or transit through the safety zones during enforcement unless authorized to do so by the COTP or the Event PATCOM.

(3) The Coast Guard may assign an official patrol to each fireworks display listed in paragraph (h) of this section. For each fireworks display assigned a patrol, a Coast Guard Event Patrol Commander (Event PATCOM) will be assigned to oversee the patrol. All persons and vessels must comply with the instructions of the Coast Guard COTP, Event PATCOM, or the official patrol. Upon being hailed by a U.S. Coast Guard vessel by siren, radio, flashing light or other means, the operator of a vessel must proceed as directed.

(e) Warning signs. (1) The pyrotechnic operator, or the agent of a professional pyrotechnics company, contracted by an event sponsor to conduct the fireworks display must ensure that a warning sign is affixed to the port and starboard side of the floating platform and visible each day the safety zone will be enforced. For a shore-based launch site, the pyrotechnic operator must ensure a warning sign is visible 3 feet above the ground level, on a post immediately adjacent to the shoreline, facing the water each day the safety zone will be enforced.

(2) The warning sign in paragraph (e)(1) of this section will be labeled “FIREWORKS—DANGER—STAY AWAY”. The sign must be: Diamond shaped, sized 4 feet by 4 feet, have a white background, and have a 3-inch orange retro-reflective border. The word “DANGER” must be in 10-inch black block letters centered on the sign. The words “FIREWORKS” and “STAY AWAY” must be in 6-inch black block letters placed above and below the word “DANGER”.

(f) Postponement or cancellation. The COTP or Event PATCOM may order the postponement or cancellation of a fireworks display at any time if, in their sole discretion, it is determined that the display cannot be conducted in a safe manner.

(g) Contact information. The public should contact the Coast Guard COTP for the area in which the event is occurring if they have questions about these safety zones. Contact information is listed below. For a description of the geographical area of each Coast Guard Sector—Captain of the Port zone, please see 33 CFR 3.25.

(1) Coast Guard Sector Delaware Bay—Captain of the Port Zone, Philadelphia, Pennsylvania: (215) 271-4940, email: D05-smb-secdelbay-WWM@uscg.mil.

(2) Coast Guard Sector Maryland-National Capital Region—Captain of the Port Zone, Baltimore, Maryland: (410) 576-2525, email: D05-DG-SectorMD-NCR-MarineEvents@uscg.mil.

(3) Coast Guard Sector Virginia—Captain of the Port Zone, Portsmouth, Virginia: (757) 483-8567; email: D05-DG-SECTORVA-WTRWAY@uscg.mil.

(4) Coast Guard Sector North Carolina—Captain of the Port Zone, Wilmington, North Carolina: (910) 343-3882, email: ncmarineevents@uscg.mil.

(h) Tables to § 165.506(h). All coordinates listed reference Datum NAD 1983. As noted in paragraph (c) of this section, the enforcement period for each of the listed safety zones is subject to change.

(1) Coast Guard Sector Delaware Bay—COTP Zone

Table 1 to Paragraph (h)(1)
No. | Enforcement period(s) | Location | Safety zone—regulated area
1 | July 2nd, 3rd, 4th or 5th | North Atlantic Ocean, Avalon, NJ; Safety Zone | The waters of the North Atlantic Ocean within a 500-yard radius of the fireworks barge in approximate location latitude 39°06′19.5″ N, longitude 074°42′02.15″ W, in the vicinity of the shoreline at Avalon, NJ.
2 | One Saturday or Sunday in June or July | Barnegat Bay, Barnegat Township, NJ; Safety Zone | The waters of Barnegat Bay within a 500-yard radius of the fireworks barge in approximate position latitude 39°44′50″ N, longitude 074°11′21″ W, approximately 500 yards north of Conklin Island, NJ.
3 | July 2nd, 3rd, 4th or 5th | North Atlantic Ocean, Cape May, NJ; Safety Zone | The waters of the North Atlantic Ocean within a 500-yard radius of the fireworks barge in approximate location latitude 38°55′36″ N, longitude 074°55′26″ W, immediately adjacent to the shoreline at Cape May, NJ.
4 | July 2nd, 3rd, 4th or 5th | Delaware Bay, North Cape May, NJ; Safety Zone | All waters of the Delaware Bay within a 360-yard radius of the fireworks barge in approximate position latitude 38°58′00″ N, longitude 074°58′30″ W.
5 | Each Thursday in July | Metedeconk River, Brick Township, NJ; Safety Zone | The waters of the Metedeconk River within a 300-yard radius of the fireworks launch platform in approximate position latitude 40°03′24″ N, longitude 074°06′42″ W, near the shoreline at Brick Township, NJ.
6 | 4th Saturday in May | Barnegat Bay, Ocean Township, NJ; Safety Zone | All waters of Barnegat Bay within a 500-yard radius of the fireworks barge in approximate position latitude 39°47′33″ N, longitude 074°10′46″ W.
7 | July 2nd, 3rd, 4th, or 5th | Little Egg Harbor, Parker Island, NJ; Safety Zone | All waters of Little Egg Harbor within a 500-yard radius of the fireworks barge in approximate position latitude 39°34′18″ N, longitude 074°14′43″ W, approximately 50 yards north of Parkers Island.
8 | Any day(s) from January 1st through December 31st specified by Notice of Enforcement published in the Federal Register and broadcast via Broadcast Notice to Mariners | Delaware River, Chester, PA; Safety Zone | All waters of the Delaware River near Chester, PA, just south of the Commodore Barry Bridge within a 500-yard radius of the fireworks barge located in approximate position latitude 39°49′43.2″ N, longitude 075°22′42″ W.
9 | One Saturday or Sunday in either June or July | Delaware River, Essington, PA; Safety Zone | All waters of the Delaware River near Essington, PA, west of Little Tinicum Island within a 250-yard radius of the fireworks barge located in the approximate position latitude 39°51′27″ N, longitude 075°18′19″ W.
10 | Any day from January 1st through December 31st specified by Notice of Enforcement published in the Federal Register and broadcast via Broadcast Notice to Mariners | Delaware River, Philadelphia, PA; Safety Zone | All waters of Delaware River, adjacent to Penn's Landing, Philadelphia, PA, within a 500-yard radius of a fireworks barge at approximate position latitude 39°56′49″ N, longitude 075°08′11″ W.
11 | One Friday, Saturday or Sunday in May; and July 2nd, 3rd, 4th or 5th; and December 31st | Rehoboth Bay, DE; Safety Zone | All waters within a 500-yard radius of a fireworks barge located at position latitude 38°41′21″ N, longitude 075°05′00″ W at Rehoboth Bay near Dewey Beach, DE.
12 | July 2nd, 3rd, 4th or 5th | Delaware Bay, Lewes, DE; Safety Zone | All waters of Delaware Bay off Lewes, DE, within a 350 yard radius of the barge anchored in approximate position 38°47′12″ N, 075°07′48″ W.
13 | One Saturday in July | Great Egg Harbor Bay, Ocean City, NJ; Safety Zone | The waters of the Great Egg Harbor Bay within a 300-yard radius of the fireworks barge in approximate position latitude 39°17′24″ N, longitude 074°34′31″ W, adjacent to shoreline of Ocean City, NJ.

(2) Coast Guard Sector Maryland-National Capital Region—COTP Zone

Table 2 to Paragraph (h)(2)
No. | Enforcement period(s) | Location | Safety zone—regulated area
1 | Any day(s) from March 1st through December 31st. Whenever feasible, the COTP will publish a Notice of Enforcement at least 2 days in advance of the event in the Federal Register. Each day that the duration of each enforcement of the zone is expected to be 5 hours or less | Washington Channel, Upper Potomac River, Washington, DC; Safety Zone | The waters of the Washington Channel within a 200-foot radius of the fireworks floating platform which will be located within an area bounded on the south by latitude 38°52′30″ N, and bounded on the north by the southern extent of the Francis Case (I-395) Memorial Bridge, located at Washington, DC.
2 | July 4th | Severn River and Spa Creek, Annapolis, MD; Safety Zone | The waters of the Severn River and Spa Creek within a 200-yard radius of the fireworks barge in approximate position latitude 38°58′38″ N, longitude 076°28′41″ W, located near the entrance to Spa Creek, at Annapolis, MD.
3 | December 31st | Upper Potomac River, Washington, DC; Safety Zone | The waters of the Upper Potomac River within a 200-yard radius of the fireworks barge in approximate position 38°48′14″ N, 077°02′10″ W, located near the waterfront (King Street) at Alexandria, VA.
4 | June 14th; September—2nd or 3rd Saturday | Northwest Harbor (East Channel), Patapsco River, MD; Safety Zone | The waters of the Patapsco River within a 200-yard radius of the fireworks barge in approximate position latitude 39°15′55.15″ N, longitude 076°34′32.66″ W, located adjacent to the East Channel of Northwest Harbor, at Baltimore, MD.
5 | May—2nd or 3rd Thursday; November—2nd Saturday or Sunday | Baltimore Inner Harbor, Patapsco River, MD; Safety Zone | The waters of the Patapsco River within a 100-yard radius of the fireworks barge in approximate position latitude 39°17′01″ N, longitude 076°36′31″ W, located at the entrance to Baltimore Inner Harbor, approximately 125 yards southwest of pier 3, at Baltimore, MD.
6 | May—2nd or 3rd Thursday or Friday; July 4th; December 31st | Baltimore Inner Harbor, Patapsco River, MD, Safety Zone | The waters of the Patapsco River within a 100-yard radius of approximate position latitude 39°17′04″ N, longitude 076°36′36″ W, located in Baltimore Inner Harbor, approximately 125 yards southeast of pier 1, at Baltimore, MD.
7 | April—1st, 2nd or 3rd Saturday or Sunday | Anacostia River, Washington, DC; Safety Zone | All navigable waters of the Anacostia River within a 400-foot radius of the fireworks barge in approximate position latitude 38°52′16.3″ N, longitude 077°00′09.7″ W, located at Washington, DC.
8 | July 4th or the Friday or Saturday before or after Independence Day (observed) | Patuxent River, Calvert County, MD; Safety Zone | The waters of the Patuxent River within a 200-yard radius of the fireworks barge located at latitude 38°19′17″ N, longitude 076°27′45″ W, approximately 700 feet from shore at Solomons Island, MD.
9 | July 3rd, or the Friday after Independence Day (observed) | Chesapeake Bay, Chesapeake Beach, MD, Safety Zone | The waters of the Chesapeake Bay within a 200-yard radius of the fireworks barge in approximate position latitude 38°41'36.36″ N, longitude 076°31′29.58″ W, and within a 200-yard radius of the fireworks barge in approximate position latitude 38°41′27.84″ N, longitude 076°31′28.50″ W, located near Chesapeake Beach, MD.
10 | July 4th | Choptank River, Cambridge, MD; Safety Zone | The waters of the Choptank River within a 300-yard radius of the fireworks launch site at Great Marsh Point, in approximate position latitude 38°35′05″ N, longitude 076°04′41″ W, located at Cambridge, MD.
11 | July 4th, or Saturday or Sunday before or after Independence Day (observed) | Middle River, Baltimore County, MD; Safety Zone | All waters of the Middle River within a 200-yard radius of the fireworks barge in approximate position latitude 39°18′25″ N, longitude 076°24′27″ W, located near Wilson Point in Baltimore County, MD.
12 | July 4th, or the Saturday or Sunday before or after Independence Day (observed) | Susquehanna River, Havre de Grace, MD; Safety Zone | All waters of the Susquehanna River within a 200-yard radius of the fireworks barge in approximate position latitude 39°32′19″ N, longitude 076°04′58.3″ W, located at Havre de Grace, MD.
13 | July 4th or the Saturday or Sunday before or after Independence Day (observed) | Susquehanna River, Havre de Grace, MD; Safety Zone | The waters of the Susquehanna River within a 300-yard radius of approximate position latitude 39°32′06″ N, longitude 076°05′22″ W, located on the island at Millard Tydings Memorial Park, at Havre de Grace, MD.
14 | July 4th, or the Saturday before or after Independence Day (observed) | Miles River, St. Michaels, MD; Safety Zone | All navigable waters of the Miles River within a 150-yard radius of the fireworks barge in approximate position latitude 38°47′55.10″ N, longitude 076°12′43.75″ W, located at the entrance to Long Haul Creek.
15 | December 31st | Spa Creek, Annapolis, MD; Safety Zone | The waters of Spa Creek within a 400-foot radius of the fireworks barge in approximate position latitude 38°58′32.48″ N, longitude 076°28′57.55″ W, located at Annapolis, MD.
16 | July 3rd, or the Friday after Independence Day (observed) | Tred Avon River, Oxford, MD; Safety Zone | The waters of the Tred Avon River within a 150-yard radius of the fireworks barge in approximate position latitude 38°41′38.84″ N, longitude 076°10′48.41″ W, approximately 330 yards northwest of the waterfront at Oxford, MD.
17 | July 3rd or August 4th | Northeast River, North East, MD; Safety Zone | All navigable waters of the Northeast River within a 300-yard radius of the fireworks barge in approximate position latitude 39°35′26.3″ N, longitude 075°57′04.9″ W, approximately 400 yards southwest of North East Community Park at North East, MD.
18 | July—1st, 2nd or 3rd Saturday | Upper Potomac River, Washington, DC; Safety Zone | The waters of the Upper Potomac River within a 300-yard radius of the fireworks barge in approximate position 38°48′38″ N, 077°01′56″ W, located east of Oronoco Bay Park at Alexandria, VA.
19 | March through October, at the conclusion of evening MLB games at Washington Nationals Ball Park | Anacostia River, Washington, DC; Safety Zone | The waters of the Anacostia River within a 600-foot radius of the fireworks barge in approximate position latitude 38°52′12.71″ N, longitude 077°00′14.08″ W, located near the Nationals Ball Park at Washington, DC.
20 | June—last Saturday or July—1st Saturday; July—3rd, 4th or last Saturday September— Saturday before Labor Day (observed) | Potomac River, Prince William County, VA; Safety Zone | The waters of the Potomac River within a 150-yard radius of the fireworks barge in approximate position latitude 38°34′07.97″ N, longitude 077°15′37.39″ W, located near Cherry Hill, VA.
21 | July 4th | North Atlantic Ocean, Ocean City, MD; Safety Zone | The waters of the North Atlantic Ocean in an area bound by the following points: latitude 38°19′39.9″ N, longitude 075°05′03.2″ W; thence to latitude 38°19′36.7″ N, longitude 075°04′53.5″ W; thence to latitude 38°19′45.6″ N, longitude 075°04′49.3″ W; thence to latitude 38°19′49.1″ N, longitude 075°05′00.5″ W; thence to point of origin. The size of the safety zone extends approximately 300 yards offshore from the fireworks launch area located at the high water mark on the beach at Ocean City, MD.
22 | May—Sunday before Memorial Day (observed) July 4th August/September—Sunday before Labor Day (observed) or Labor Day (observed) | Isle of Wight Bay, Ocean City, MD; Safety Zone | The waters of Isle of Wight Bay within a 150-yard radius of the fireworks barge in approximate position latitude 38°22′31″ N, longitude 075°04′30″ W, located at Ocean City, MD.
23 | July 4th | Assawoman Bay, Fenwick Island—Ocean City, MD; Safety Zone | The waters of Assawoman Bay within a 200-yard radius of the fireworks launch location on the pier at the west end of Northside Park, in approximate position latitude 38°25′54.72″ N, longitude 075°03′53.11″ W, located at Ocean City, MD.
24 | July 4th; December 31st | Baltimore Harbor, Baltimore Inner Harbor, MD; Safety Zone | The waters of Baltimore Harbor, Patapsco River, within an 800-foot radius of the fireworks barge in approximate position latitude 39°16′36.7″ N, longitude 076°35′53.8″ W, located northwest of the Domino Sugar refinery wharf at Baltimore, MD.
25 | July 4th, or the Tuesday, Wednesday or Thursday before Independence Day (observed) | Chester River, Kent Island Narrows, MD, Safety Zone | All navigable waters of Chester River, Kent Island Narrows (North Approach), within 800 feet of the fireworks launch site at Kent Island in approximate position latitude 38°58′45.0″ N, longitude 076°14′52.8″ W, located in Queen Anne's County, MD.
26 | July 3rd, or the Friday, Saturday or Sunday after Independence Day (observed) | Severn River, Sherwood Forest, MD; Safety Zone | The waters of the Severn River within a 150-yard radius of the fireworks discharge site located at the end of Sherwood Forest Club main pier in approximate position latitude 39°01′54.0″ N, longitude 076°32′41.8″ W, located at Sherwood Forest, MD.
27 | July 4th | Patapsco River-Middle Branch, Baltimore, MD; Safety Zone | The waters of the Middle Branch of the Patapsco River, within an 800-feet radius of the fireworks display in the in approximate position latitude 39°15′31.67″ N, longitude 076°37′13.95″ W, located at Baltimore, MD.

(3) Coast Guard Sector Virginia—COTP Zone

Table 3 to Paragraph (h)(3)
No. | Enforcement period(s) | Location | Safety zone—regulated area
1 | July 4th | Linkhorn Bay, Virginia Beach, VA, Safety Zone | All waters of the Linkhorn Bay within a 400-yard radius of the fireworks display in approximate position latitude 36°52′20″ N, longitude 076°00′38″ W, located near the Cavalier Golf and Yacht Club, Virginia Beach, VA.
2 | July 4th | York River, Yorktown, VA, Safety Zone | All waters of the York River within a 400-yard radius of the fireworks display in approximate position latitude 37°14′14″ N, longitude 076°30′02″ W, located near Yorktown, VA.
3 | June—4th Friday; July—1st Friday; July 4th | Chesapeake Bay, Norfolk, VA, Safety Zone | All waters of the Chesapeake Bay within a 400-yard radius of the fireworks display located in position latitude 36°57′21″ N, longitude 076°15′00″ W, located near Ocean View Fishing Pier.
4 | July 4th | North Atlantic Ocean, Virginia Beach, VA, Safety Zone A | All waters of the North Atlantic Ocean within a 1,000-yard radius of the center located near the shoreline at approximate position latitude 36°51′12″ N, longitude 075°58′06″ W, located off the beach between 17th and 31st Streets.
5 | July 4th | Nansemond River, Suffolk, VA, Safety Zone | All waters of the Nansemond River within a 350-yard radius of approximate position latitude 36°44′27″ N, longitude 076°34′42″ W, located near Constant's Wharf in Suffolk, VA.
6 | July 4th | Chickahominy River, Williamsburg, VA, Safety Zone | All waters of the Chickahominy River within a 400-yard radius of the fireworks display in approximate position latitude 37°14′50″ N, longitude 076°52′17″ W, near Barrets Point, VA.
7 | July 4th; August—1st Friday, Saturday and Sunday; December 31st | Cape Charles Harbor, Cape Charles, VA, Safety Zone | All waters of Cape Charles Harbor located within a 125 yard-radius of the fireworks display at approximate position latitude 37°15′46.5″ N, longitude 076°01′30.3″ W near Cape Charles, VA.
8 | July 4th, 5th or 6th | Chesapeake Bay, Virginia Beach, VA, Safety Zone | All waters of Chesapeake Bay located within a 200-yard radius of the fireworks display at approximate position latitude 36°54′58.18″ N, longitude 076°06′44.3″ W near Virginia Beach, VA.
9 | July 3rd, 4th or 5th | Chesapeake Bay, Virginia Beach, VA, Safety Zone | All waters of the Chesapeake Bay 400 yard radius of the fireworks display in approximate position latitude 36°55′02″ N, longitude 076°03′27″ W, located at the First Landing State Park at Virginia Beach, Virginia.
10 | July 4th | Elizabeth River Eastern Branch, Norfolk, VA; Safety Zone | All waters of Eastern Branch Elizabeth River within the area along the shoreline immediately adjacent to Harbor Park Stadium ball park and outward into the river bound by a line drawn from latitude 36°50′30″ N, longitude 076°16′39.9″ W, thence south to 36°50′26.6″ N, longitude 076°16′39″ W, thence northwest to 36°50′28.8″ N, longitude 076°16′49.1″ W, thence north to 36°50′30.9″ N, longitude 076°16′48.6″ W, thence east along the shoreline to point of origin.
11 | April: Last Friday, Saturday and Sunday | North Atlantic Ocean, Virginia Beach, VA, Safety Zone | All water of the North Atlantic Ocean within a 300-yard radius of approximate position latitude 36°50′29.91″ N, longitude 075°58′05.36″ W, located off the beach between 10th and 15th Streets.

(4) Coast Guard Sector North Carolina—COTP Zone

Table 4 to Paragraph (h)(4)
No. | Enforcement period(s) | Location | Safety zone—regulated area
1 | July 4th; October—1st Saturday | Morehead City Harbor Channel, NC, Safety Zone | The waters of the Morehead City Harbor Channel that fall within a 360-yard radius of latitude 34°43′01″ N, longitude 076°42′59.6″ W, a position located at the west end of Sugar Loaf Island, NC.
2 | April—1st or 2nd Saturday; July 4th; August—3rd Monday; October—1st Saturday | Cape Fear River, Wilmington, NC, Safety Zone | The waters of the Cape Fear River within an area bound by a line drawn from the following points: Latitude 34°13′54″ N, longitude 077°57′06″ W; thence northeast to latitude 34°13′57″ N, longitude 077°57′05″ W; thence north to latitude 34°14′11″ N, longitude 077°57′07″ W; thence northwest to latitude 34°14′22″ N, longitude 077°57′19″ W; thence east to latitude 34°14′22″ N, longitude 077°57′06″ W, thence southeast to latitude 34°14′07″ N, longitude 077°57′00″ W; thence south to latitude 34°13′54″ N, longitude 077°56′58″ W; thence to the point of origin, located approximately 500 yards north of Cape Fear Memorial Bridge.
3 | July 1st Saturday; July 4th | Green Creek and Smith Creek, Oriental, NC, Safety Zone | The waters of Green Creek and Smith Creek that fall within a 300-yard radius of the fireworks launch site at approximate latitude 35°01′29.6″ N, longitude 076°42′10.4″ W, located near the entrance to the Neuse River in the vicinity of Oriental, NC.
4 | May—3rd or 4th Saturday; July 4th | Pasquotank River, Elizabeth City, NC, Safety Zone | The waters of the Pasquotank River within a 300-yard radius of the fireworks launch barge in approximate position latitude 36°17′47″ N, longitude 076°12′17″ W.
5 | July 4th or 5th | Currituck Sound, Corolla, NC, Safety Zone | The waters of the Currituck Sound within a 300-yard radius of the fireworks launch site in approximate position latitude 36°22′23.8″ N, longitude 075°49′56.3″ W, located near Whale Head Bay.
6 | July 4th; November—3rd Saturday | Middle Sound, Figure Eight Island, NC, Safety Zone | The waters of the Figure Eight Island Causeway Channel from latitude 34°16′32″ N, longitude 077°45′32″ W, thence east along the marsh to latitude 34°16′19″ N, longitude 077°44′55″ W, thence south to the causeway at latitude 34°16′16″ N, longitude 077°44′58″ W, thence west along the shoreline to latitude 34°16′29″ N, longitude 077°45′34″ W, thence back to the point of origin.
7 | June—2nd Saturday; July 4th | Pamlico River, Washington, NC, Safety Zone | The waters of Pamlico River and Tar River within a 300-yard radius of the fireworks launch site at approximate position latitude 35°32′25″ N, longitude 077°03′42″ W, a position located on the southwest shore of the Pamlico River, Washington, NC.
8 | July 4th | Neuse River, New Bern, NC, Safety Zone | The waters of the Neuse River within a 360-yard radius of the fireworks barge in approximate position latitude 35°06′07.1″ N, longitude 077°01′35.8″ W.
9 | July—1st Saturday or Sunday; July 4th | Pamlico Sound, Ocracoke, NC, Safety Zone | The waters of Pamlico Sound with a 300-yard radius of the National Park Service boat launch site at Ocracoke, NC at position latitude 35°07′07″ N, longitude 075°59′16″ W.
10 | July 4th; November—Saturday following Thanksgiving Day | Motts Channel, Banks Channel, Wrightsville Beach, NC, Safety Zone | The waters of Motts Channel within a 500-yard radius of the fireworks launch site in approximate position latitude 34°12′29″ N, longitude 077°48′27″ W, approximately 560 yards south of Sea Path Marina, Wrightsville Beach, NC.
11 | July 4th | Cape Fear River, Southport, NC, Safety Zone | The waters of the Cape Fear River within a 600-yard radius of the fireworks barge in approximate position latitude 33°54′40″ N, longitude 078°01′18″ W, approximately 700 yards south of the waterfront at Southport, NC.
12 | July 4th | Big Foot Slough, Ocracoke, NC, Safety Zone | The waters of Big Foot Slough within a 300-yard radius of the fireworks launch site in approximate position latitude 35°06′54″ N, longitude 075°59′24″ W, approximately 100 yards west of the Silver Lake Entrance Channel at Ocracoke, NC.
13 | August—1st Tuesday | New River, Jacksonville, NC, Safety Zone | The waters of the New River within a 300-yard radius of the fireworks launch site in approximate position latitude 34°44′45″ N, longitude 077°26′18″ W, approximately one half mile south of the Hwy 17 Bridge, Jacksonville, NC.
14 | May—3rd or 4th Saturday; July 4th | Bath Creek, Bath, NC, Safety Zone | The waters on Bath Creek within a 300-yard radius of approximate position 35°28′05″ N, 076°48′56″ W, Bath, NC.
15 | July 4th; October—2nd Saturday | Atlantic Intracoastal Waterway, Swansboro, NC, Safety Zone | The waters of the Atlantic Intracoastal Waterway within a 300-yard radius of the fireworks launch position at approximate position latitude 34°41′02″ N, longitude 077°07′04″ W, located near Swansboro, NC.
16 | September—4th or last Saturday | Shallowbag Bay, Manteo, NC; Safety Zone | The waters of Shallowbag Bay within a 300-yard radius of a fireworks barge anchored at latitude 35°54′31″ N, longitude 075°39′42″ W.
17 | July—3rd or 4th | Atlantic Intracoastal Waterway, Surf City, NC, Safety Zone | The waters of the Atlantic Intracoastal Waterway within a 300-yard radius of approximate position latitude 34°25′46″ N, longitude 077°33′01″ W, in Surf City, NC.
18 | September—3rd, 4th, or last Friday or Saturday | Neuse River, New Bern, NC, Safety Zone | The waters within a 300-yard radius of the fireworks launch location at approximate position latitude 35°06′23″ N, longitude 077°01′48″ W, on the Neuse River, New Bern, NC.

Dated: October 1, 2021.
Laura M. Dickey,
Rear Admiral, U.S. Coast Guard, Commander, Fifth Coast Guard District.

[FR Doc. 2021-22496 Filed 10-14-21; 8:45 am]

BILLING CODE 9110-04-P